DEPARTMENT OF ENERGY

Federal Energy Regulatory Commission

Combined Notice of Filings #1

Take notice that the Commission received the following electric rate filings:

Docket Numbers: ER21-2793-001.

Applicants: Midcontinent Independent System Operator, Inc.

Description: Tariff Amendment: 2021-11-04_Attachment X Deficiency Response for Pro forma MPFSA to be effective 12/31/9998.

Filed Date: 11/4/21.

Accession Number: 20211104-5119.

Comment Date: 5 p.m. ET 11/26/21.

Docket Numbers: ER21-2873-001.

Applicants: Alabama Power Company.

Description: Tariff Amendment: Supplement to Tri-State Solar Project Amended and Restated LGIA Filing to be effective 8/31/2021.

Filed Date: 11/4/21.

Accession Number: 20211104-5077.

Comment Date: 5 p.m. ET 11/26/21.

Docket Numbers: ER21-2884-001.

Applicants: Midcontinent Independent System Operator, Inc.

Description: Tariff Amendment: 2021-11-04_SA 3438 Entergy Arkansas-Long Lake Solar Sub 1st Rev GIA (J663 J834) to be effective 9/8/2021.

Filed Date: 11/4/21.

Accession Number: 20211104-5071.

Comment Date: 5 p.m. ET 11/26/21.

Docket Numbers: ER22-109-001.

Applicants: Cheyenne Light, Fuel and Power Company.

Description: Tariff Amendment: Amendment Jurisdictional Agreement Filing to be effective 12/31/9998.

Filed Date: 11/3/21.

Accession Number: 20211103-5155.

Comment Date: 5 p.m. ET 11/24/21.

Docket Numbers: ER22-335-000.

Applicants: Midcontinent Independent System Operator, Inc.

Description: § 205(d) Rate Filing: 2021-11-04_SA 3616 Entergy Louisiana-St. Jacques Solar 1st Rev GIA (J1076) to be effective 10/29/2021.

Filed Date: 11/4/21.

Accession Number: 20211104-5073.

Comment Date: 5 p.m. ET 11/26/21.

Docket Numbers: ER22-336-000.

Applicants: Southwest Power Pool, Inc.

Description: § 205(d) Rate Filing: 3864 Seven Cowboy Wind Project Interim GIA to be effective 10/15/2021.

Filed Date: 11/4/21.

Accession Number: 20211104-5117.

Comment Date: 5 p.m. ET 11/26/21.

Docket Numbers: ER22-337-000.

Applicants: Bio Energy (Ohio II), LLC.

Description: Baseline eTariff Filing: Bio Energy (Ohio II), LLC FERC MBR Application to be effective 11/5/2021.

Filed Date: 11/4/21.

Accession Number: 20211104-5122.

Comment Date: 5 p.m. ET 11/26/21.

Docket Numbers: ER22-338-000.

Applicants: Arizona Public Service Company.

Description: § 205(d) Rate Filing: Service Agreement Nos. 344 and 345, Agreement with CSE and S&R to be effective 1/3/2022.

Filed Date: 11/4/21.

Accession Number: 20211104-5123.

Comment Date: 5 p.m. ET 11/26/21.

Docket Numbers: ER22-339-000.

Applicants: Alabama Power Company.

Description: § 205(d) Rate Filing: TVA NITSA Amendment (Add Raytheon DP) to be effective 10/5/2021.

Filed Date: 11/4/21.

Accession Number: 20211104-5128.

Comment Date: 5 p.m. ET 11/26/21.

Docket Numbers: ER22-340-000.

Applicants: Arizona Public Service Company.

Description: Tariff Amendment: Service Agreement No. 390—Notice of Cancellation to be effective 1/3/2022.

Filed Date: 11/4/21.

Accession Number: 20211104-5129.

Comment Date: 5 p.m. ET 11/26/21.

Docket Numbers: ER22-341-000.

Applicants: Arizona Public Service Company.

Description: § 205(d) Rate Filing: Service Agreement No. 395 to be effective 1/3/2022.

Filed Date: 11/4/21.

Accession Number: 20211104-5132.

Comment Date: 5 p.m. ET 11/26/21.

Docket Numbers: ER22-342-000.

Applicants: PJM Interconnection, L.L.C.

Description: § 205(d) Rate Filing: Revisions to OATT, Att. Q re: Working Credit Limit Definition to be effective 1/4/2022.

Filed Date: 11/4/21.

Accession Number: 20211104-5164.

Comment Date: 5 p.m. ET 11/26/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2021.
Debbie-Anne A. Reese,
Deputy Secretary.

[FR Doc. 2021-24592 Filed 11-9-21; 8:45 am]

BILLING CODE 6717-01-P